COMMISSION ON CIVIL RIGHTS

Notice of Public Meeting of the Mississippi Advisory Committee

AGENCY: Commission on Civil Rights.

ACTION: Announcement of meeting.

SUMMARY: Notice is hereby given, pursuant to the provisions of the rules and regulations of the U.S. Commission on Civil Rights (Commission), and the Federal Advisory Committee Act (FACA) that a meeting of the Mississippi Advisory Committee to the Commission will convene by conference call at 1:00 p.m. (CST) on Friday, July 27, 2018. The purpose of the meeting is to continue discussion for potential topics of study.

DATES: Friday, July 27, 2018, at 1:00 p.m. CST.

Public Call-In Information: Conference call-in number: 1-877-719-9788 and conference call 7669812.

FOR FURTHER INFORMATION CONTACT: Corrine Sanders at csanders@usccr.gov or by phone at (312)-353-8312.

SUPPLEMENTARY INFORMATION: Interested members of the public may listen to the discussion by calling the following toll-free conference call-in number: 1-877-719-9788 and conference call 7669812. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-888-364-3109 and providing the operator with the toll-free conference call-in number: 1-877-719-9788 and conference call 7669812.

Members of the public are invited to make statements during the open comment period of the meeting or submit written comments. The comments must be received in the regional office approximately 30 days after each scheduled meeting. Written comments may be mailed to the Midwestern Regional Office, U.S. Commission on Civil Rights, 230 S. Dearborn Street, Suite 2120, Chicago, IL, faxed to (312) 353-8324, or emailed to Corrine Sanders at csanders@usccr.gov. Persons who desire additional information may contact the Midwestern Regional Office at (312) 353-8311.

Records and documents discussed during the meeting will be available for public viewing as they become available at https://database.faca.gov/committee/meetings.aspx?cid=279, click the “Meeting Details” and “Documents” links.Records generated from this meeting may also be inspected and reproduced at the Eastern Regional Office, as they become available, both before and after the meetings. Persons interested in the work of this advisory committee are advised to go to the Commission's website, www.usccr.gov, or to contact the Midwestern Regional Office at the above phone numbers, email or street address.

Agenda: Friday, July 27, 2018:

I. Rollcall

II. Welcome and Introductions

III. SAC Discussion on Civil Rights Issues in MS

IV. Adjourn

Dated: July 12, 2018.
David Mussatt,
Supervisory Chief, Regional Programs Unit.

[FR Doc. 2018-15293 Filed 7-17-18; 8:45 am]

BILLING CODE P